ADVISORY COUNCIL ON HISTORIC PRESERVATION

Notice of ACHP Quarterly Business Meeting

AGENCY: Advisory Council on Historic Preservation.

ACTION: Notice.

SUMMARY: Notice is hereby given that the Advisory Council on Historic Preservation (ACHP) will meet Thursday, November 10, 2011. The meeting will be held at 8:30 a.m. in Room M09 in the Old Post Office Building, 1100 Pennsylvania Ave., NW., Washington, DC 20004.

The ACHP was established by the National Historic Preservation Act of 1966 (16 U.S.C. 470 et seq.) to advise the President and Congress on national historic preservation policy and to comment upon federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-federal members appointed by the President.

Call to Order_8:30 a.m.

I. Chairman's Welcome

II. Presentation of Chairman's Award

III. Chairman's Report

IV. ACHP Management Issues

A. Credentials Committee Report and Recommendations—Update

B. Alumni Foundation Report

C. ACHP FY 2012 Budget

V. Historic Preservation Policy and Programs

A. Preservation Action Federal Preservation Task Force Report and Recommendations

B. National Park Service “Call to Action”

C. National Trust for Historic Preservation's “Preservation 10X” and the ACHP

D. White House American Latino Heritage Initiative

E. Legislative Agenda

F. Navy War of 1812 Initiative

G. Rightsizing Task Force Report

H. Sustainability Task Force Report

I. Federal Preservation Funding for Disaster Recovery

VI. Section 106 Issues

A. Section 3 Report Development

B. Native American Traditional Cultural Landscapes Action Plan

C. Department of Veterans Affairs Section 106 Issues

D. Administration's Priority Projects—Report

VII. New Business

VIII. Adjourn

Note: The meetings of the ACHP are open to the public. If you need special accommodations due to a disability, please contact the Advisory Council on Historic Preservation, 1100 Pennsylvania Avenue, NW., Room 803, Washington, DC, (202) 606-8503, at least seven (7) days prior to the meeting. For further information: Additional information concerning the meeting is available from the Executive Director, Advisory Council on Historic Preservation, 1100 Pennsylvania Avenue, NW., #803, Washington, DC 20004.

Dated: October 19, 2011.
Reid Nelson,
Acting Executive Director.

[FR Doc. 2011-27533 Filed 10-25-11; 8:45 am]

BILLING CODE 4310-K6-M